DEPARTMENT OF JUSTICE

Antitrust Division

Notice Pursuant To The National Cooperative Research and Production Act of 1993—Southwest Research Institute: Joint Industry Project For Fluid Properties Meter Development and Support

Notice is hereby given that, on April 11, 2005, pursuant to section 6(a) of the National Cooperative Research Production Act of 1993, 15 U.S.C. 4301 et seq. (“the Act”), Southwest Research Institute: Joint Industry Project for Fluid Properties Meter Development and Support (“SwRI: Fluid Properties Meter”) has filed written notifications simultaneously with the Attorney General and the Federal Trade Commission disclosing changes in its membership. The notifications were filed for the purpose of extending the Act's provisions limiting the recovery of antitrust plaintiffs to actual damages under specified circumstances. Specifically, YZ Systems, Inc., Conroe, TX has been added as a party to this venture.

No other changes have been made in either the membership or planned activity of the group research project. Membership in this group research project remains open, and SwRI: Fluid Properties Meter intends to file additional written notification disclosing all changes in membership.

On November 30, 2004, SwRI: Fluid Properties Meter filed its original notification pursuant to section 6(a) of the Act. The Department of Justice published a notice in the Federal Register pursuant to section 6(b) of the Act on February 2, 2005 (70 FR 5487), as corrected on May 12, 2005 (70 FR 25111).

Dorothy B. Fountain,
Deputy Director of Operations Antitrust Division.

[FR Doc. 05-11751 Filed 6-14-05; 8:45 am]

BILLING CODE 4410-11-M